INTERNATIONAL TRADE COMMISSION

[Inv. No. 337-TA-494]

Certain Automotive Measuring Devices,Products Containing Same, and Bezels for Such Devices; Notice of Commission Decision Not To Review an Initial Determination Extending the Target Date for Completion of the Investigation

AGENCY: U.S. International Trade Commission.

ACTION: Notice.

SUMMARY: Notice is hereby given that the U.S. International Trade Commission has determined not to review the initial determination (“ID”) issued by the presiding administrative law judge (“ALJ”) on January 7, 2004, extending the target date for completion of the above-captioned investigation to January 20, 2005.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission issued a notice of investigation dated June 16, 2003, naming Auto Meter Products, Inc. (“Auto Meter”) of Sycamore, Illinois, as the complainant and several companies as respondents. On June 20, 2003, the notice of investigation was published in the Federal Register. 68 FR 37023. The complaint alleges violations of section 337 of the Tariff Act of 1930 in the importation and sale of certain automotive measuring devices, products containing same, and bezels for such devices, by reason of infringement of U.S. Registered Trademark Nos. 1,732,643 and 1,497,472, and U.S. Supplemental Register No. 1,903908, and infringement of the complainant's trade address. Subsequently, seven more firms were added as respondents based on two separate motions filed by Auto Meter.

On December 16, 2003, Auto Meter filed a motion to extend the target date for completion of the investigation and to modify procedural schedule. On December 23, 2003, respondents American Products, Inc., Equus products, Inc., GR Motorsports, Inc. (d/b/a Matrix GR Motorsports) and Hiper Industries, Inc. (d/b/a R-1 Racing Sports) filed an opposition to Auto Meter's motion. On December 24, 2003, respondent Blitz North America, Inc., filed a joinder to the above opposition. On December 30, 2003, Auto Meter filed a motion for leave to reply, and a reply.

On January 7, 2004, the ALJ issued an ID (Order No. 15) extending the target date for completion of this investigation from August 20, 2004, to January 20, 2005. No party petitioned for review of the ID.

The authority for the Commission's determination is contained in section 337 of the Tariff Act of 1930, as amended (19 U.S.C. 1337), and in section 210.42 of the Commission's Rules of Practice and Procedure (19 CFR 210.42).

Issued: February 2, 2004.
By order of the Commission.
Marilyn R. Abbott,
Secretary.

[FR Doc. 04-2409 Filed 2-4-04; 8:45 am]

BILLING CODE 7020-02-P